INTERNATIONAL TRADE COMMISSION

[Investigation No. 731-TA-1383 (Final)]

Stainless Steel Flanges From China; Determination

On the basis of the record ¹ developed in the subject investigation, the United States International Trade Commission (“Commission”) determines, pursuant to the Tariff Act of 1930 (“the Act”), that an industry in the United States is materially injured by reason of imports of stainless steel flanges from China that have been found by the U.S. Department of Commerce (“Commerce”) to be sold in the United States at less than fair value (“LTFV”).²

¹ The record is defined in sec. 207.2(f) of the Commission's Rules of Practice and Procedure (19 CFR 207.2(f)).

² Stainless Steel Flanges From the People's Republic of China: Final Affirmative Determination of Sales at Less Than Fair Value, 83 FR 26959, June 11, 2018.

Background

The Commission instituted this investigation effective August 16, 2017, following receipt of a petition filed with the Commission and Commerce by the Coalition of American Flange Producers on behalf of itself and its individual members, Core Pipe Products, Inc., Carol Stream, Illinois, and Maass Flange Corporation, Houston, Texas. The Commission scheduled the final phase of the investigation following notification of a preliminary determination by Commerce that imports of stainless steel flanges from China were being sold at LTFV within the meaning of section 733(b) of the Act (19 U.S.C. 1673b(b)). Effective January 23, 2018, the Commission established a general schedule for the conduct of the final phase of its investigations on stainless steel flanges from China and India,³ following preliminary determinations by Commerce that imports of the subject stainless steel flanges were subsidized by the governments of China and India. Notice of the scheduling of the final phase of the Commission's investigation and of a public hearing to be held in connection therewith was given by posting copies of the notice in the Office of the Secretary, U.S. International Trade Commission, Washington, DC, and by publishing the notice in the Federal Register of February 7, 2018 (83 FR 5459). The hearing was held in Washington, DC, on April 10, 2018, and all persons who requested the opportunity were permitted to appear in person or by counsel. The Commission subsequently issued its final affirmative determination regarding subsidized imports from China on May 29, 2018 (83 FR 25714, June 4, 2018). Following notification of a final determination by Commerce that imports of stainless steel flanges from China were being sold at LTFV within the meaning of section 735(a) of the Act (19 U.S.C. 1673d(a)),⁴ notice of the supplemental scheduling of the final phase of the Commission's antidumping duty investigation with respect to China was given by posting copies of the notice in the Office of the Secretary, U.S. International Trade Commission, Washington, DC, and by publishing the notice in the Federal Register of June 25, 2018 (83 FR 29568).

³ Stainless Steel Flanges from China and India: Scheduling of the Final Phase of Countervailing Duty and Antidumping Duty Investigations, 83 FR 5459, February 7, 2018.

⁴ Stainless Steel Flanges From the People's Republic of China: Final Affirmative Determination of Sales at Less than Fair Value, 83 FR 26959, June 11, 2018.

The Commission made this determination pursuant to section 735(b) of the Act (19 U.S.C. 1673d(b)). It completed and filed its determination in this investigation on July 25, 2018. The views of the Commission are contained in USITC Publication 4807 (July 2018), entitled Stainless Steel Flanges from China: Investigation No. 731-TA-1383 (Final).

By order of the Commission.
Issued: July 25, 2018.
Lisa Barton,
Secretary to the Commission.

[FR Doc. 2018-16227 Filed 7-27-18; 8:45 am]

BILLING CODE 7020-02-P